DEPARTMENT OF TRANSPORTATION

Federal Highway Administration

Environmental Impact Statement: Anchorage, AK

AGENCY: Federal Highway Administration (FHWA), and Alaska Department of Transportation and Public Facilities (ADOT&PF).

ACTION: Notice of intent.

SUMMARY: Pursuant to the National Environmental Policy Act of 1969 (NEPA), as amended (42 U.S.C. 4321 et seq.), and the Council on Environmental Quality Regulations for Implementing the Procedural Provisions of NEPA (40 CFR parts 1500-1508), the Federal Highway Administration (FHWA) is issuing this notice to advise the public that an environmental impact statement (EIS) will be prepared for a proposed transportation improvement project in the Municipality of Anchorage (MOA), Alaska. The purpose of the proposed project is to mitigate congestion along an existing transportation corridor and to provide for future transportation demands.

Authority: 23 U.S.C. 315; 49 CFR 1.48.

FOR FURTHER INFORMATION CONTACT: Tim A. Haugh, Environmental/Right-of-way Specialist, Federal Highway Administration, Alaska Division Office, 709 W. 9th Street, Room 851, P.O. Box 21648, Juneau, Alaska 99802-1648. Telephone 907/586-7430. Jim Childers, P.E., Project Manager, Alaska Department of Transportation and Public Facilities, Preliminary Design & Environmental, P.O. Box 196900, Anchorage, Alaska 99519-6900. Telephone 907/269-0544.

SUPPLEMENTARY INFORMATION: The Federal Highway Administration (FHWA), in cooperation with the Alaska Department of Transportation and Public Facilities (ADOT&PF), intends to prepare an EIS on a proposal to relieve congestion on the New Seward Highway from Rabbit Creek Road to 36th Avenue (Interstate Route I-A3-1) and to provide for future transportation demand in the corridor. Alternatives under consideration include but are not limited to:

(1) No build; continued current use of roadways, may include short-term minor restoration types of activities (safety and maintenance improvements) that maintain continuing operation of the existing roadway;

(2) Highway mainline, frontage road, and bicycle/pedestrian improvements, including new grade separations for improved east-west mobility and/or modifications to existing interchanges;

(3) Transportation System Management (TSM) and/or Transportation Demand Management (TDM) Strategies;

(4) Traffic Operations/Intelligent Transportation Systems (ITS);

(5) Public Transit Improvements:

• Commuter rail strategies

• Light rail strategies

• Other transit improvements;

(6) Other improvements to the existing arterial road system. The Campbell Creek wetlands and the Areawide Trails System would be accommodated as part of the proposed action alternatives. The project corridor is not currently served by other modes of public transportation, such as the “People Mover” bus system or the Alaska Railroad.

The proposed project is necessary to meet Anchorage's future transportation needs. An increase in population as well as new commercial and residential development in south and east Anchorage have resulted in a need to improve travel to and from these areas. The proposed action is an integral part of the Anchorage Metropolitan Area Transportation Study (AMATS) Long Range Transportation Plan and Transportation Improvements Plan, and the MOA Official Streets and Highways Plan.

The Anchorage area is currently listed as a serious non-attainment area relative to carbon monoxide emissions. This non-attainment is in part a result of traffic congestion. The proposed action would aid in relieving traffic congestion in south Anchorage.

The scoping process will include the use of newsletters, internet website, and meetings soliciting comments from appropriate Federal, State, and local agencies, beginning in December, 2000 and continuing throughout 2001. Private organizations and citizens who have an interest in this proposal will also be notified. A public hearing will be scheduled and a series of public meetings will be held in the communities adjacent to and served by the New Seward Highway. Public notice will be given of the time and place of the meetings and hearing. To ensure that the full range of issues related to this proposed action are addressed and all significant issues identified, written public input, comments and suggestions on environmental issues or concerns related to the proposed improvements are invited from all interested parties. Comments should be submitted to the Federal Highway Administration (FHWA) or the Alaska Department of Transportation and Public Facilities (ADOT&PF) at the addresses provided above. (Catalog of Federal Domestic Assistance Program Number 20-205, Highway Research, Planning and Construction)

Dated: December 20, 2000.
Karen A. Schmidt,
Assistant Division Administrator.

[FR Doc. 00-33376 Filed 12-29-00; 8:45 am]

BILLING CODE 4910-EM-M